DEPARTMENT OF LABOR

Employment and Training Administration

Youth Development Practitioner Apprenticeship (YDPA) Initiative; Availability of Funds and Solicitation of Grant Applications

AGENCY: Employment and Training Administration, Labor.

ACTION: Notice of availability of funds and solicitation for grant applications (SGA).

This Notice Contains All of the Necessary Information and Forms Needed To Apply for Grant Funding

SUMMARY: The U.S. Department of Labor, Employment and Training Administration, announces the competitive grants to be awarded under the Youth Development Practitioner Apprenticeship (YDPA) initiative. This initiative targets incumbent and prospective professional youth workers working directly with young people. The funding available for these grants to register apprenticeship programs and apprentices is $900,000 and includes two categories of national organizations for application and award. There are two categories of national organizations: (1) National organizations and (2) National organizations awarded a national organization grant award in response to the Youth Development Practitioner Apprenticeship (YDPA) Implementation Grant SGA published in Vol. 66, No. 65/Wednesday, April 4, 2001.

DATES: Applications will be accepted commencing April 15, 2002. The closing date for receipt of applications is May 15, 2002, by 4:00 p.m. Eastern Daylight saving time. No exceptions to the mailing and hand-delivery conditions set forth in this notice will be granted. Applications that do not meet the conditions set forth in this notice will not be considered.

ADDRESSES: Applications must be mailed or hand-delivered to: Mamie D. Williams, U.S. Department of Labor, Employment and Training Administration, Division of Federal Assistance, Room S-4203, 200 Constitution Avenue, NW., Washington, DC 20210. Reference SGA/DFA 02-110.

Note: Your application should specify on the cover sheet whether you are applying for a category one or two grant.

Delivery of Applications

Hand Delivered Proposals. It is preferred that applications be mailed at least five days prior to the closing date. To be considered for funding, hand-delivered applications must be received by 4:00 p.m. (Eastern Daylight Saving Time), on the closing date at the specified address.

Telegraphed and/faxed applications will not be honored. Failure to adhere to the above instructions will be a basis for a determination of non-responsiveness.

Late Proposals. A proposal received at the designated office after the exact time specified for receipt will not be considered unless it is received before the award is made and it:

• Was sent by U. S. Postal Service registered or certified mail not later than the fifth day (5th) calendar day before the closing date specified for receipt of applications (e.g. an offer submitted in response to a solicitation requiring receipt of applications by the 20th of the month must be mailed by the 15th):

• Was sent by U.S. Postal Service Express Mail Next Day Service, Post Office to Addressee, not later than 5 p.m. at the place of mailing two working days prior to the deadline date specified for receipt of proposals in the SGA. The term “working days” excludes weekends and U.S. Federal holidays.

The only acceptable evidence to establish the date of mailing of an application received after the deadline date for the receipt of proposals sent by the U.S. Postal Service. The term “post marked” means a printed, stamped, or otherwise placed impression (exclusive of a postage meter machine impression) that is readily identifiable without further action as having been supplied or affixed on the date of mailing by employees of the U.S. Postal Service.

Withdrawal of Applications. Applications may be withdrawn by written notice or telegram (including mailgram) received at any time before an award is made. Applications may be withdrawn in person by the applicant or by an authorized representative thereof, if the representative's identity is made known and the representative signs a receipt for the proposal.

FOR FURTHER INFORMATION CONTACT: Questions should be faxed to Mamie D. Williams at 202-693-2879. This is not a toll-free number. All inquiries should include the SGA/DFA number SGA/DFA 02-110, and a contact name, fax and phone numbers. This announcement will also be published on the Internet on the Employment and Training Administration's Home Page at http://www.doleta.gov. Award notifications will also be published on the Home Page.

SUPPLEMENTARY INFORMATION:

I. Authority

Section 171 of the Workforce Investment Act authorizes the use for demonstration program funds appropriated under section 174(b) for the purpose of developing and implementing techniques and approaches, and demonstrating the effectiveness of specialized methods, in addressing employment and training needs. Section 171(d) of the Workforce Investment Act authorizes the use for dislocated worker demonstration programs of funds reserved under section 132(a)(2)(A) and establishes the administration of these funds by the Secretary for that purpose under section 173(b). DOL FY 2000 Appropriations Act, enacted November 17, 1999, authorizes dislocated worker demonstration projects that provide assistance to new entrants in the workforce and incumbent workers. Apprenticeship programs are authorized by The National Apprenticeship Act of 1937 Fitzgerald Act), Public Law 75-308 and clarified in Title 29, Code of Federal Regulations part 29.

II. Background

This section describes the context for this initiative aimed at developing and supporting apprenticeship programs for professional youth workers.

The enactment of the Workforce Investment Act (WIA) provides a unique opportunity to strongly impact the youth workforce development system. WIA moves away from short-term, largely summer employment opportunities to longer-term more comprehensive services to eligible youth. The focus is on assisting young people to acquire the skills and competencies that they need to successfully transition to adulthood, careers and further education and training. Youth development recognizes that young people need a range of supports and opportunities for learning and for growth over a long period of time. Services under a youth development approach include opportunities for leadership development, basic supportive services as well as academic and occupational skills training and work experiences.

Success in delivering the extensive services outlined by WIA depends not only on the quality of program design, but on the delivery of services to youth by front-line staff. Because youth services operate at the local level and are implemented by front-line youth workers, the role of youth workers is critical. Youth workers develop relationships with young people and provide crucial expertise and support to youth as they transition to adulthood and careers.

There is broad applicability for working with young people regardless of the funding source. Our vision over time is that this will be embraced throughout the field of youth work and will encourage more young adults to pursue youth work as a career. The long-term success of the youth workforce development system requires a human capital strategy. We are seeking to upgrade the field of youth work through accreditation, training opportunities, apprenticeship and certification.

III. The Youth Development Practitioner Apprenticeship Initiative

This initiative targets youth workers, those professionals who work or will work in youth programs delivering services to young people as front-line staff, to become apprentices in registered apprenticeship programs. The vision of occupation recognition and apprenticeship for youth workers is to provide quality training opportunities for youth workers who deliver comprehensive services to young people in order to maximize our investment in young people, in youth programming and in the workforce development system. There are two major goals for achieving occupation recognition and apprenticeship for Youth Development Practitioners. The first seeks to strengthen the field of youth work by providing training, mentoring and a career path for incumbent and prospective youth workers and, consequently, improve retention in the field. Secondly, this undertaking attempts to improve the quality of youth services by providing training standards; upgrading incumbent youth worker skills by increasing the number of youth workers who receive extensive, quality training; and increasing the stability of programs by helping to retain caring adult staff.

Registered apprenticeship provides a vehicle to meet the goals outlined above. It provides an effective time-honored way to build a skilled, knowledgeable and loyal workforce. The combination of structured OJT and related technical instruction will offer Youth Development Practitioners a recognizable career path that includes high quality training and educational opportunities, while offering the field recognizable occupational standards. It also provides for recognition through the issuance of a nationally recognized Certificate of Completion.

The Department of Labor awarded 13 Youth Development Practitioner Implementation Grants on June 30, 2001. Three categories of grants were awarded: (1) Funds for Local Intermediaries to Support Local Youth Program Service Operators in the Implementation of Apprenticeship Programs, (2) Grants to National Organizations, and (3) Provider of Technical Assistance on Practice and Curriculum Materials. The category three grantee, the Sar Levitan Center of Johns Hopkins University operates a website for this initiative. Information about YDPA initiative can be found on their website at www.ydpaclearinghouse.org

The Department of Labor will continue to disseminate information and publicize the Youth Development Practitioner occupation and apprenticeship. These funds are intended to stimulate, seed and support the broad implementation of these apprenticeship programs within national organizations that have affiliate youth programs which employ youth development practitioners.

IV. Grant Categories

National Organizations (Category 1 and Category 2)

We intend to support the development and registration of apprenticeship programs at the national and local level by supporting the broad implementation of the Youth Development Practitioner apprenticeship initiative by a national organization among its local affiliates. These grant awards seek to firmly establish apprenticeship within a national organization as a framework for staff development. National organizations are required to establish national guideline standards and register apprenticeship programs. Preference will be given to national organizations that demonstrate the ability to broadly implement the YDPA initiative within their organization and offer a strategic vision for maximizing impact within their organization. Examples of such a strategy may include: targeted implementation of affiliates within a state or region; coordination with other local or national organizations to implement the apprenticeship program in local communities and areas particularly as a way to develop and coordinate related instruction; and/or the development of an incentive program among affiliates. The national organization will develop a Youth Development Practitioner apprenticeship program for their local affiliates and will recruit affiliates to participate. The national organization will be responsible for developing a supportive system within their organization that coordinates and provides technical assistance to facilitate affiliate participation and provide ongoing support.

Thousands of local youth program service providers are affiliated with a national organization. This affiliation may take a number of forms. For example, a program may be a local chapter of a national organization that provides a range many types of community services, including youth programs.

Outcomes

Funded National Organizations (both category 1 and 2) are responsible for:

• Coordinating broad implementation of registered Youth Development Practitioner apprenticeship programs among affiliates or members

• Establishing an infrastructure within the national organization that provides ongoing support to participating programs, provides access to necessary training, coordinates outreach and recruitment, conducts evaluation, disseminates information including promotional materials, best practices and lessons learned, and monitors retention

• Certification of National Guideline Standards and registration of apprenticeship programs with participating apprentices before the end of the grant period

• Establishing a career path for apprentices including additional credentialing and necessary articulation agreements with post-secondary institutions

• Developing a mechanism for evaluation of activities undertaken that includes measurable results of impact

• Develop and operationalize a plan for sustainability to support this initiative after the grant has ended

Activities That May Be Supported Under This Grant Include:

• Development of a sustainable infrastructure and an oversight or advisory body to provide direction and guidance;

• Development of an outreach/communication plan to promote the apprenticeship and encourage broad affiliate participation;

• Development and dissemination of information materials on registered youth development practitioner programs;

• Identification of relevant curriculum for delivery of related instruction;

• Development of a recruitment and retention plan for participating apprentices and programs;

• Convening local youth program operators for the purpose of outreach, sharing of practice, technical assistance and training of journey level staff for delivery and assessment of on-the-job training;

• Adoption of or establishment of a train-the-trainer system that will ensure the availability of knowledgeable, experienced skilled instructors for delivery of on-the-job training and related instruction course work;

• Delivery of related instruction;

• Development of a process to promote career ladder for those graduates of the registered apprenticeship system (i.e. articulation into an Associates Degree or higher);

• Identification and dissemination of information on practice

• Defining, setting and documenting measurable goals or benchmarks for grant activities; and

• Documenting processes, lessons learned and effective practices.

• Development of an incentive system among affiliates.

V. Eligible Applicants

You are an eligible applicant for these grants if you are a not-for-profit organization, established under section 501(c)(3) of the Internal Revenue Code. To be an eligible applicant for Category 2, you must have been awarded a National Organization grant in response to YDPA Implementation Grant SGA published in Vol. 66, No. 65/Wednesday, April 4, 2001.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Note: Administrative Costs: Pursuant to 20 CFR 667.210(b), grantees are advised that there is a 10% limitation on administrative costs on funds administered under this grant. The Grant Officer may, however, approve additional administrative costs up to a maximum of 15% of the total award amount, if adequate justification is provided by the grantee at the time of the award. In no event, may administrative costs exceed 15% of the total award amount. The cost of administration shall include those disciplines enumerated in 20 CFR 6667.220(b) and (c).

Number and Amounts of Grants Awards

We expect to award up to eight (8) national organization grants. Category 1 national organizations may apply for grants in amounts ranging between $150,00-$200,000. Category 2 national organizations, current YDPA grantees, are eligible to apply for grants in amounts ranging between $50,000-$100,000.

Period of Performance

Grant awards will be made for a period of 18 months.

Application Submittal

Applicants must submit one (1) copy of their proposal with an original signature and two (2) copies of their proposal. The applications shall be divided into two distinct parts: Part I—which contains the Standard Form SF-424, “Application for Federal Assistance,” (Appendix A) and “Budget Information Sheet,” Appendix B). The Catalog of Federal Assistance number is 17.260. All copies of the SF-424 MUST have original signatures of the legal entity applying for grant funding. Applicants shall indicate on the SF-424 the organization's IRS Status, if applicable. According to the Lobbying Disclosure Act of 1995, Section 18, an organization described in section 501(c) 4 of the Internal Revenue Code of 1986 which engages in lobbying activities shall not be eligible for the receipt of federal funds constituting an award, grant, or loan. The individual signing the SF-424 on behalf of the applicant must represent the responsible financial and administrative entity for a grant should that application result in an award. The budget must include, on a separate page, a detailed breakout of each line item.

Part II—Project Narrative—will be the technical proposal not to exceed 20 double-spaced single-sided, numbered pages, with a limit of 10 additional pages of support/commitment letters. The exception for format requirements applies to the Executive Summary. The Executive Summary must be limited to no more that two (2) single-sided pages. A font size of at least twelve (12) pitch is required throughout the application. Applicants that fail to meet the page limitation requirements will not be considered. You can include letters of support if they provide specific commitments. While applicants will not receive points simply because letters of support are enclosed, such letters may lead to a better score by showing that commitments presented in the text of your proposal are serious. Form letters will not be considered.

Review Process

A careful evaluation of applications will be made by a technical review panel who will evaluate the applications against the established criteria listed below. The panel results are advisory in nature and are not binding on the Grant Officer. The Government may elect to award the grant with or without discussions with the offeror. In situations without discussions, an award will be based on the offeror's signature on the SF-424, which constitutes a binding offer. All applications must include the required elements. Final award decisions will be based on the best interests of the government, including consideration of geographic area and variety amount types of organizations awarded grants.

Evaluation Criteria

Category 1: Grants to National Organizations

(1) Experience and capacity of the organization to reach, influence and support local youth program providers in development of registered apprenticeship programs. (35 points)

• Provide organization information: What is the mission of the organization? How many affiliate members does this organization have and where are they located?

• What is the relationship of the national organization to its affiliates or members? How does the organization communicate with its members? What are examples of technical assistance provided to local affiliates or members?

• What existing and new partnerships will be utilized to increase the capacity of the organization to implement apprenticeship programs?

(2) Soundness and quality of plan of activity. (40 points)

• Detail your strategy for implementing the YDPA in your organization (see section IV under National Organizations regarding preference for award). Include the number of affiliates projected to participate and your basis for identifying this number. List participating affiliates, if the list is incomplete, outline plan for securing additional participation. Commit or support letters from affiliates may be attached to support. (Preference will be given to national organizations that demonstrate high levels of participation among affiliates.)

• Delineate the specific activities proposed to support the development of registered apprenticeship programs and their time lines (be sure to address reasonableness of time lines presented).

• Outline strategies to mobilize interest among affiliates (beyond dissemination efforts) and replicate Youth Development Practitioner apprenticeship programs?

• Describe the infrastructure that will be developed to provide ongoing support to participating affiliates.

• Outline plan for the delivery of related instruction. Identify key partners (i.e. training providers, post-secondary institutions) who will be involved in this plan.

• Outline how your organization will create a career for additional credentialing. Outline your plan for engaging post-secondary institutions and support local affiliates to secure articulation agreements. If available, attach letters of support.

• Provide plan for evaluating the activities undertaken and how the impact of the program will be measured (include data to be collected).

(3) Commitment and plans for sustaining support after federal grant has ended. (25 points)

• Provide a chart that delineates specific resources [including monetary and other types of resources (staff, facilities, etc.)] that will contribute to the sustainability of this project as well as how these resources will be coordinated. Include the organization's resources and external partnership commitments. Identify additional partnerships that will be pursued.

• Explain how activities to promote and support registered apprenticeship will be incorporated into ongoing activities of the organization. Outline plan for sustaining infrastructure after funding has ended.

• Explain how promising practices of affiliates or members will be disseminated on an ongoing basis.

Category 2: Funds to Existing YDPA National Organization Grantees

Additional grant funds are being made available to original YDPA grantees in order to expand their implementation of the YDPA initiative by engaging additional affiliates and further solidifying the initiative within the national organization infrastructure.

(1) Demonstration of successful implementation of current grant. (35 points)

• Describe the capacity of your organization to expand the YDPA initiative. Include the mission/vision statement and description of the organization.

• Provide an outline of planned activities and the timeline of the current grant (include section 2 from the evaluation section of your original grant proposal as well as supplemental information developed since the grant's inception). If the timeline has not been achieved to date, provide an explanation and adjusted scheduled.

• Attach the quarterly reports submitted to the Department of Labor for Quarter 3 (qualitative report that includes quarters 1, 2 & 3).

• Outline challenges encountered during implementation of current YDPA implementation grant and the strategies to address these challenges (already employed, ongoing and/or planned).

(2) Expansion of current YDPA grant. (40 points)

• Detail how increased funds will broaden your implementation of YDPA. Outline a strategic plan to grow this initiative within your organization (see section IV under National Organizations). Include:

• The number of affiliates projected to participate and your basis for identifying this number. List participating affiliates, if the list is incomplete, outline plan for securing additional participation. Provide a plan for their integration into your organization's current YDPA activities. Commitment letters from affiliates may be attached to support. (Preference will be given to national organizations that demonstrate high levels of participation among affiliates.)

• Outline additional activities planned if additional funds are awarded.

• Detail how additional funds can further solidify the YDPA initiative within your organization.

• Provide a modified work plan/timeline of activities that integrates activities from current YDPA grant and additional activities proposed above.

(3) Commitment and plans for sustaining support after federal grant has ended. (25 Points)

• Provide a chart that delineates specific resources [including monetary and other types of resources (staff, facilities, etc.)] that will contribute to the sustainability of this project as well as how these resources will be coordinated. Include the organizations resources and external partnership commitments. Identify additional partnerships that will be pursued.

• Explain how activities to promote and support registered apprenticeship will be incorporated into ongoing activities of the organization. Outline plan for sustaining infrastructure after funding has ended.

• Explain how promising practices of affiliates or members will be disseminated on an ongoing basis.

The closing date for receipt of proposals is May 15, 2002. Your application should specify on the cover whether you are applying for a grant under Category 1 and Category 2 (Appendix C).

Signed in Washington, DC, this 10th day of April, 2002.
James W. Stockton,
Grants Officer.

Required Forms:

Appendix A

Application for Federal Assistance (Standard Form 424)

Appendix B

Budget Information Sheet

Detailed budget and budget information sheet

Appendix C

Cover Sheet

BILLING CODE 4510-30-P

[FR Doc. 02-9088 Filed 4-12-02; 8:45 am]

BILLING CODE 4510-30-C